DEPARTMENT OF EDUCATION

[CFDA No.: 84.299A]

Indian Education Discretionary Grant Programs—Demonstration Grants for Indian Children

AGENCY: Department of Education.

ACTION: Notice inviting applications for new awards for fiscal year (FY) 2001.

SUMMARY: Purpose of Program: The purpose of this program is to provide financial assistance to projects to develop, test, and demonstrate the effectiveness of services and programs to improve the educational opportunities and achievement of preschool, elementary, and secondary students, through activities such as:

(a) Innovative programs related to the educational needs of educationally deprived children;

(b) Educational services that are not available to such children in sufficient quantity or quality, including remedial instruction, to raise the achievement of Indian children in one or more of the core academic subjects of English, mathematics, science, foreign languages, art, history, and geography;

(c) Bilingual and bicultural programs and projects;

(d) Special health and nutrition services, and other related activities, that address the special health, social, and psychological problems of Indian children;

(e) Special compensatory and other programs and projects to assist and encourage Indian children to enter, remain in, or reenter school, and to increase the rate of secondary school graduation;

(f) Comprehensive guidance, counseling, and testing services;

(g) Early childhood and kindergarten programs, including family-based preschool programs that emphasize school readiness and parental skills, and the provision of services to Indian children with disabilities;

(h) Partnership projects between local educational agencies (LEAs) and institutions of higher education that allow secondary school students to enroll in courses at the postsecondary level to aid these students in the transition from secondary school to postsecondary education;

(i) Partnership projects between schools and local businesses for school-to-work transition programs designed to provide Indian youth with the knowledge and skills they need to make an effective transition from school to a first job in a high-skill, high-wage career;

(j) Programs designed to encourage and assist Indian students to work toward, and gain entrance into, an institution of higher education; or

(k) Other services that meet the purpose of this program.

Eligible Applicants: Eligible applicants for this program include a State educational agency; LEA; Indian tribe; Indian organization; federally supported elementary and secondary school for Indian students; Indian institution, including an Indian institution of higher education; or a consortium of such institutions that meet the requirements of 34 CFR 75.127 through 75.129.

An application from a consortium of eligible entities must meet the requirements of 34 CFR 75.127 through 75.129. The written agreement must be submitted with the application. The agreement must be signed or the applicant must submit other evidence that all the members of the consortium agree to the contents of the agreement. Letters of support do not meet the consortium requirements. The Secretary rejects and does not consider an application that does not meet these requirements.

Deadline for Transmittal of Applications: May 25, 2001.

Deadline for Intergovernmental Review: July 27, 2001.

Applications Available: April 4, 2001.

Available Funds: $4,350,000.

Estimated Range of Awards: $150,000 to $400,000.

Estimated Average Size of Awards: $310,000.

Estimated Number of Awards: 14.

Note: The Department is not bound by any estimates in this notice.

Project Period: Up to 36 months. It is the expectation of the Department that all project periods will begin August 1, 2001 with program services beginning with the Fall 2001 academic term.

Budget Requirement: Projects funded under this competition must budget for a one and one-half day Project Directors' meeting in Washington, DC during each year of the budget.

Maximum Annual Award Amount: In no case does the Secretary make an award greater than $400,000 for a single budget period. The Secretary rejects and does not consider an application that proposes a budget exceeding these maximum amounts.

Page Limit: The application narrative is where an applicant addresses the selection criteria that are used by reviewers in evaluating the application. An applicant must limit the narrative to the equivalent of no more than 75 double-spaced pages, using the following standards: (1) A “page” is 8 ½″ x 11″ (one side only) with one-inch margins (top, bottom and sides).

(2) All text in the application narrative, including titles, headings, footnotes, quotations, references, and captions, as well as all text in charts, tables, figures, and graphs, must be double-spaced (no more than three lines per vertical inch).

If using a proportional computer font, use no smaller than a 12-point font, and an average character density no greater than 18 characters per inch. If using a nonproportional font or a typewriter, do not use more than 12 characters to the inch.

The page limit does not apply to the cover sheet; the budget section (including the narrative budget justification); the assurances and certifications; or the one-page abstract, appendices, resumes, bibliography, and letters of support. However, all of the application narrative addressing the selection criteria must be included in the narrative section. If, in order to meet the page limit, you use print size, spacing, or margins smaller than the standards specified in this notice, your application will not be reviewed or considered for funding.

Applicable Regulations: The Education Department General Administrative Regulations (EDGAR) in 34 CFR parts 74, 75, 77, 79, 80, 81, 82, 85, 97, 98, and 99.

Priorities

Invitational Priorities

While applicants may propose any project within the scope of section 9121 of Title IX of the Elementary and Secondary Act of 1965, as amended (the Act), the Secretary is particularly interested in applications that meet the following invitational priorities. However, an application that meets one or more of the invitational priorities does not receive competitive or absolute preference over other applications.

Invitational Priority 1—School readiness projects that provide age appropriate educational programs and language skills to three- and four-year old Indian students to prepare them for successful entry into school at the kindergarten school level.

Invitational Priority 2—Early childhood and kindergarten programs, including family-based preschool programs, that emphasize school readiness and parental skills.

Competitive Preference

(1) In making multiyear grants under this program, the Secretary will award five (5) additional points to applications that present a plan for combining two or more of the activities described in Section 9121(c) of the Act over a period of more than one year.

Authority: Section 9121 of the Act; 20 U.S.C. 7831(d)(1)(B).

(2) In making grants under this program, the Secretary will award five (5) additional points to applications submitted by Indian tribes, Indian organizations, and Indian institutions of higher education, including a consortium of any of these entities with other eligible entities. An application from a consortium of eligible entities that meet the requirements of 34 CFR 75.127 through 75.129 and includes an Indian tribe, Indian organization, or Indian institution of higher education shall be considered eligible to receive the five (5) additional priority points. The written consortium agreement must be submitted with the application. The agreement must be signed or the applicant must submit other evidence that all the members of the consortium agree to the contents of the agreement. Letters of support do not meet the consortium requirements. The Secretary rejects and does not consider an application that does not meet these requirements.

Authority: Section 9153 of the Act; 20 U.S.C. 7873.

Selection Criteria

The selection criteria are included in full in the application package for this competition. These selection criteria were established based on the regulations for evaluating discretionary grants found in 34 CFR 75.200 through 75.210.

For Applications Contact: Education Publications Center (ED Pubs), P.O. Box 1398, Jessup, MD 20794-1398. Telephone (toll free): 1-877-433-7827. FAX (301) 470-1244. If you use a telecommunication device for the deaf (TDD), you may call (toll free): 1-877-576-7734. You may also contact ED Pubs via its Web site (http://www.ed.gov/edpubs.html) or its E-mail address (edpubs@inet.ed.gov). If you request an application from ED Pubs, be sure to identify this competition as follows: CFDA number 84.299A.

Individuals with disabilities may obtain this document in an alternative format by contacting the Grants and Contracts Services Team, U.S. Department of Education, 400 Maryland Avenue, SW., room 3317, Switzer Building, Washington, DC 20202-2550. Telephone: (202) 205-8351. Individuals who use a telecommunications device for the deaf (TDD), may call the Federal Information Relay Services (FIRS) at 1-800-877-8339 between 8 a.m. and 8 p.m., Eastern time, Monday through Friday. However, the Department is not able to reproduce in an alternative format the standards forms included in the application package.

FOR FURTHER INFORMATION CONTACT: Cathie Martin, Office of Indian Education, U.S. Department of Education, 400 Maryland Avenue, SW., Room 3W115, Washington, DC 20202-6335. Telephone: (202) 260-1683. Internet address: Cathie_Martin@ed.gov.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (pdf) on the World Wide Web at either of the following sites: http://ocfo.ed.gov/fedreg.htm; or http://www.ed.gov/news.html.

To use the PDF you must have the Adobe Acrobat Reader Program with Search, which is available free at either of the previous sites. If you have questions about using the PDF, call the U.S. Government Printing Office toll free at 1-888-293-6498; or in the Washington, DC, area at (202) 512-1530.

Note: The official version of this document is published in the Federal Register. Free Internet access to the official edition of the Federal Register and the Code of Federal Regulations is available on GPO Access at: http://www.access.gpo.gov/nara/index.html

Program Authority: 20 U.S.C. 7831.

Dated: March 19, 2001.
Thomas M. Corwin,
Acting Deputy Assistant Secretary for Elementary and Secondary Education.

[FR Doc. 01-7291 Filed 3-2-01; 8:45 am]

BILLING CODE 4000-01-U